DEPARTMENT OF HOUSING AND URBAN DEVELOPMENT

[Docket No. FR-4707-N-09]

Public Housing Assessment System (PHAS): Physical Condition Scoring Process and Financial Condition Scoring Process

AGENCY: Office of the Assistant Secretary for Public and Indian Housing, HUD.

ACTION: Notice.

SUMMARY: This notice advises public housing agencies (PHAs) and the public that HUD will extend the use of four elements that were part of the interim scoring processes for the Public Housing Assessment System (PHAS) Physical Condition Indicator. HUD adopted interim scoring processes for two of the four PHAS indicators “ Physical Condition and Financial Condition—by notice published in the Federal Register on March 15, 2002, and described in notices published in the Federal Register on November 26, 2001. Except for the four elements that are being extended, the Physical Condition and Financial Condition Indicators for PHAs with fiscal years ending on and after September 30, 2003, will be scored in accordance with the Physical Condition Scoring Process notice published on June 28, 2000, and the Financial Condition Scoring Process notice published on December 21, 2000.

After consideration, the Department has determined not to implement the proposed rule for PHAS. The current PHAS is now fully operational and is providing complete and official assessment scores. Beginning with the fiscal year ending September 30, 2001, PHAs were scored under the four PHAS indicators, rather than issued an advisory score. Since that time, the Department has increased its PHAS-related quality assurance activities.

FOR FURTHER INFORMATION CONTACT: For further information contact the Office of Public and Indian Housing Real Estate Assessment Center (PIH-REAC), Attention: Wanda Funk, Department of Housing and Urban Development, 1280 Maryland Avenue, SW., Suite 800, Washington DC 20024; telephone the Technical Assistance Center at 1-888-245-4860 (this is a toll free number). Persons with hearing or speech impairments may access that number through TTY by calling the toll-free Federal Information Relay Service at (800) 877-8339.

SUPPLEMENTARY INFORMATION:

I. Background

On March 15, 2002 (67 FR 11844), HUD published a notice adopting PHAS interim scoring processes for PHAs with fiscal years ending September 30, 2001, December 31, 2001, March 31, 2002, June 30, 2002, and September 30, 2002. In that notice, HUD announced interim changes in the scoring methodology for two of the four PHAS assessment indicators: the Physical Condition Indicator and Financial Condition Indicator. Detailed information about the changes to the scoring processes was provided in notices published in the Federal Register on November 26, 2001. The Introduction notice is published at 66 FR 59080. The Physical Condition Scoring Process Interim Scoring notice is published at 66 FR 59084. The Financial Condition Scoring Process Interim Assessments notice is published at 66 FR 59126. A notice published in the Federal Register on August 30, 2002 (67 FR 55860), extended the interim scoring methodologies to apply to PHAs with fiscal years ending December 31, 2002, March 31, 2003 and June 30, 2003.

II. Physical Condition Scoring Process and Financial Condition Scoring Process

At the time that the interim scoring processes were adopted on March 15, 2002, the Department advised that if an extension of the interim period were necessary, the Department would notify PHAs and the public by notice published in the Federal Register. The Department will extend the following four elements of the November 26, 2001 notice for PHAs with fiscal years ending on and after September 30, 2003:

1. The Item Weights and Criticality Levels, Appendix 1 to the Physical Condition Scoring Notice of November 26, 2001, 66 FR 59090-59102;

2. The Dictionary of Deficiency Definitions, Appendix 2 to the Physical Condition Scoring Notice of November 26, 2001, 66 FR 59102-59124;

3. The sampling weights for buildings explained in the section entitled “16. Examples of Sampling Weights for Buildings” of the November 26, 2001 notice, 66 FR 59088; and

4. As stated in the November 26, 2001 notice, 66 FR 59081, the overall PHAS Indicator #1 score will continue to determine the frequency of inspections of a PHA's portfolio. For PHAs whose PHAS Indicator #1 score is 24 or higher based on the 30 point score, physical inspections will be conducted every two years (subject to any changes made in further revisions to the rule or scoring notices). For PHAs whose PHAS Indicator #1 score is less than 24 based on the 30 point score, physical inspections will be conducted annually.

With respect to all other elements of the November 26, 2001 interim scoring methodologies, the Department has determined that an extension of the interim period is not necessary, and by this notice is notifying PHAs and the public that PHAs having fiscal years ending on and after September 30, 2003, the PHAS scores will be issued for effect based on the scoring notices published in the Federal Register prior to the publication of the November 26, 2001, notices. The prior Physical Condition Scoring Process notice was published on June 28, 2000 (65 FR 39988). The prior Financial Condition Scoring Process notice was published on December 21, 2000 (65 FR 80686).

III. Applicable Regulations and Notices

Itemized in the chart below are the applicable regulations and scoring process notices that, together with the four elements extended by this notice, govern the assessment and scoring of PHAs under the PHAS for PHAs with fiscal years ending September 30, 2003 and after.

Item | Publication date | Federal Register Page No.
Public Housing Assessment System (PHAS) Amendments; Final Rule | January 11, 2000 | 65 FR 1738.
Public Housing Assessment System (PHAS): Technical Correction; Final Rule | June 6, 2000 | 65 FR 36042.
Public Housing Assessment System Physical Condition Scoring Process; Notice | June 28, 2000 | 65 FR 39988.
Public Housing Assessment System; Financial Condition Scoring Process; Notice | December 21, 2000 | 65 FR 80686.
Public Housing Assessment System Management Operations Scoring Process for PHAs With Fiscal Years Ending On or After March 31, 2000; Notice | June 28, 2000 | 65 FR 40028.
Public Housing Assessment System | June 28, 2000 | 65 FR 40034.
Resident Service and Satisfaction Scoring Process; Notice

Dated: October 10, 2003.
Michael Liu,
Assistant Secretary for Public and Indian Housing.

[FR Doc. 03-26475 Filed 10-20-03; 8:45 am]

BILLING CODE 4210-33-P